FEDERAL COMMUNICATIONS COMMISSION

[MB Docket No. 12-203; FCC 12-80]

Annual Assessment of the Status of Competition in the Market for the Delivery of Video Programming

AGENCY: Federal Communications Commission.

ACTION: Notice.

SUMMARY: The Commission is required to report annually to Congress on the status of competition in markets for the delivery of video programming. This document solicits data, information, and comment on the status of competition in the market for the delivery of video programming for the Commission's Fifteenth Report (15th Report). The 15th Report will provide updated information and metrics regarding the video marketplace in 2011 and 2012. Comments and data submitted in response to this document in conjunction with publicly available information and filings submitted in relevant Commission proceedings will be used for the report to Congress.

DATES: Interested parties may file comments, on or before September 10, 2012, and reply comments on or before October 10, 2012.

ADDRESSES: Federal Communications Commission, 445 12th Street SW., Washington, DC 20554.

FOR FURTHER INFORMATION CONTACT: Johanna Thomas, Media Bureau (202) 418-7551, or email at johanna.thomas@fcc.gov.

SUPPLEMENTARY INFORMATION: This is a synopsis of the Commission's Annual Assessment of the Status of Competition in the Market for Delivery of Video Programming, Notice of Inquiry (NOI), in MB Docket No. 12-203, FCC 12-80, released July 20, 2012. The complete text of the document is available for inspection and copying during normal business hours in the FCC Reference Center, 445 12th Street SW., Washington, DC 20554, and may also be purchased from the Commission's copy contractor, BCPI, Inc., Portals II, 445 12th Street SW., Washington, DC 20054. Customers may contact BCPI, Inc. at their Web site http://www.bcpi.com or call 1-800-378-3160.

Synopsis of Notice of Inquiry

1. Section 628(g) of the Communications Act of 1934, as amended (the Communications Act) requires the Commission to report annually on “the status of competition in the market for the delivery of video programming.” This NOI solicits data, information, and comment on the state of competition in the delivery of video programming for the Commission's Fifteenth Report (“15th Report”). We seek to update the information and metrics provided in the Fourteenth Report (“14th Report”) and report on the state of competition in the video marketplace in 2011 and 2012. Using the information collected pursuant to this NOI, we seek to enhance our analysis of competitive conditions, better understand the implications for the American consumer, and provide a solid foundation for Commission policy making with respect to the delivery of video programming to consumers.

2. We invite all interested parties to provide input for the 15th Report. We seek to collect data to gain further insight into such areas as the deployment of new technologies and services, as well as innovation and investment in the video marketplace. The entry of each new delivery technology provides consumers with increasing options in obtaining video content. We therefore request comment on industry structure, market conduct and performance, consumer behavior, urban-rural comparisons, and key industry inputs for video programming. To the extent possible, we request commenters to provide information and insights on competition using this framework.

3. In particular, we request data, information, and comment from entities that provide delivered video programming directly to consumers. These entities include multichannel video programming distributors (MVPDs), broadcast television stations, and online video distributors (OVDs). We also seek data, information, and comment from entities that provide key inputs into video programming distribution. These include content creators and aggregators as well as manufacturers of consumer premises equipment, including equipment that enables consumers to view programming on their television sets and on other devices (e.g., smartphones and tablets). In addition, we request data, information, and comment from consumers and consumer groups. The accuracy and usefulness of the 15th Report will depend on the quality of the data and information we receive from commenters in response to this NOI. We encourage thorough and substantive submissions from industry participants, as well as state and local regulators with knowledge of the issues raised. When possible, we will augment reported information with submissions in other Commission proceedings and from publicly available sources.

4. We expect to use the revised analytical framework adopted in the 14th Report. Under this framework, first we categorize entities that deliver video programming into one of three groups: MVPDs, broadcast television stations, or OVDs. Entities delivering video content are assigned to these strategic groups based on similar business models or combination strategies. Second, we examine industry structure, conduct, and performance, considering factors such as: (1) The number and size of firms in each group, horizontal and vertical integration, merger and acquisition activity, and conditions affecting entry and the ability to compete; (2) the business models and competitive strategies used by firms that directly compete as video programming distributors, including product differentiation, advertising and marketing, and pricing; and (3) the improvements in the quantity, quality, and delivery methods of programming to subscribers, subscriber and penetration rates, financial indicators (e.g., revenue and profitability), and investment and innovation activities. Third, we look upstream and downstream to examine the influence of industry inputs and consumer behavior on the delivery of video programming. In the 14th Report, we discussed two key industry inputs: video content creators and aggregators and consumer premises equipment.

5. We seek comment on whether the analytic framework adopted in the 14th Report is a useful way for the Commission to evaluate and report on the status of video programming competition or whether modifications are needed for the 15th Report. Do the three strategic group classifications allow us to adequately assess the interaction across these groups? Are an entity's business incentives or competitive concerns affected by operating in more than one group? How does the placement of entities into strategic groups affect by their ability to offer multiple services (i.e., video, voice and broadband)? What influence do industry structure, conduct, and performance have on one another?

6. The data reported in previous reports on the status of competition for the delivery of video programming were derived from various sources, including data the Commission collects in other contexts (e.g., FCC Form 477 and FCC Form 325), comments filed in response to notices of inquiry and other Commission proceedings; publicly available information from industry associations; company filings and news releases; Security and Exchange Commission filings; data from trade associations and government entities; data from securities analysts and other research companies and consultants; company news releases and Web sites; corporate presentations to investors, newspaper and periodical articles; scholarly publications; vendor product releases; white papers; and various public Commission filings, decisions, reports, and data. We seek comment on whether there are additional data sources available for our analysis. What other sources of data, especially quantitative data, should we use to perform a comprehensive analysis of the market for the delivery of video programming? Are there certain stakeholders we should reach out to in order to diversify the data and further supplement the record?

7. In previous Notices of Inquiry, we have requested data as of June 30 of the relevant year to monitor trends on an annual basis. To continue our time-series analysis, we request data as of June 30, 2011, and June 30, 2012. We also recognize that a significant amount of data and information are reported on a calendar year basis, and as such, we ask commenters to provide year-end 2011 data when readily available and relevant.

Providers of Delivered Video Programming

8. We seek information and comment that will allow us to analyze the structure, conduct, and performance of MVPDs, broadcast television stations, and OVDs. To improve our description and analysis of the video products within each group, we seek specific and granular quantitative and qualitative data as well as information from companies in each group. In addition, we request comment from the perspective of consumers, advertisers, content aggregators, content creators, and/or consumer premises equipment manufacturers on whether and to what extent MVPDs, broadcast stations, and OVDs consider the other two groups' offerings to be complements and/or substitutes for one another.

Multichannel Video Programming Distributors

9. MVPD Structure. MVPDs include all entities that make available for purchase multiple channels of video programming. In our 14th Report, we determined that most MVPD subscribers use cable, DBS, or telephone MVPDs for their video service. Fewer than one percent of MVPD subscribers use other types of MVPDs (e.g., home satellite dishes (HSD), open video systems (OVS), wireless cable systems, and private cable operators (PCOs). We also found that little reliable data is available for these other types of MVPDs. We request comment on the extent to which these other types of MVPDs should be included in the 15th Report.

10. For each type of MVPD, we seek data on the number of MVPD providers, the number of homes passed, the number of subscribers for delivered video programming, the number of linear channels and amount of non-linear programming offered, the ability of subscribers to watch programming on multiple devices, and the geographic area in which individual providers offer service. In addition, we seek comment on the most appropriate unit of measurement for assessing geographic coverage. We note that different types of MVPDs may report data regarding availability and use that is not standardized to a common geographic unit. This greatly hinders our ability to assess the competitive alternatives available to homes and to identify where MVPDs are engaged in head-to-head competition. In the 14th Report, we addressed this concern in the context of estimating the number of homes with access to multiple MVPDs. We therefore seek data and information on the number of homes that are passed by one MVPD, two MVPDs, and three or more MVPDs. We wish to identify those markets and geographic areas where head-to-head competition exists, where entry is likely in the near future, and where competition once existed but failed. What factors influence a subscriber's decision to switch from one type of MVPD service to another, for instance from cable MVPD service to DBS MVPD service or vice versa?

11. We request information identifying differences between cable, DBS, and telephone MVPD subscribers. Are DBS subscribers more likely to reside in rural areas or areas not served by cable systems? What percentage of homes cannot receive DBS service because they are not within the line-of-site of the satellite signal? In addition, we request updated information on the number of markets where DBS operators provide local-into-local broadcast service. Particular MVPD providers offer bundles of multiple services, including broadband, voice, and mobile wireless services. How, if at all, do these bundled offerings affect competition? For example, what affect, if any, does the inability of DBS operators to directly provide broadband, voice, and mobile wireless services along with their video service have on competition among and the financial performance of MVPDs?

12. With respect to non-contiguous states, do DBS MVPDs offer the same video packages at the same prices in Alaska and Hawaii as they offer in the 48 contiguous states? Do subscribers need different or additional equipment to receive video services in these states?

13. We seek comment on other MVPDs such as HSD and PCOs. Are these technologies still relevant today? If so, how are they relevant and to what extent are they available?

14. The Commission has not addressed the extent to which wireless providers offering video programming to mobile phones and other wireless devices should be classified as MVPDs under the Act, and we do not intend to do so within the context of this proceeding. We note that, in past reports, the Commission considered certain of these providers in its analysis of video competition. For the 15th Report, we request information on the extent to which mobile wireless providers continue to offer video programming to their customers. How has this changed during 2011 and the first half of 2012, and what are the reasons for such changes? How and to what extent do mobile wireless providers and MVPDs use wireless technologies, including Wi-Fi and wireless broadband, to provide video programming today, and what trends should we anticipate for the future? How do these services compete with or complement the traditional video programming services offered by MVPDs and by other providers of video programming?

15. In the 14th Report, we did not directly measure horizontal concentration for video distribution. Rather, we estimated the number of homes on a nationwide basis that have access to two, three, or four MVPDs. We seek comment on the value of our approach. We also seek data or comment on what information we can acquire to assist us in performing this analysis. Likewise, we invite analysis regarding the relationship between horizontal concentration and competition. To what extent does horizontal concentration affect price or quality of service?

16. In merger reviews, the Commission routinely examines horizontal concentration. It has classified MVPD service as a distinct product market and found individual homes to be the appropriate focus regarding competitive choices. In the 15th Mobile Wireless Report, the Commission applied the Herfindahl-Hirshman Index (HHI) to shares of mobile wireless connections held by facilities-based wireless providers at the level of Economic Areas, calculating shares of connections from the providers' number of connections. These Economic Areas are compiled based on census block data. For purposes of the 15th Report, we seek comment on the appropriate methodology for calculating concentration in delivered video services. Should we continue to consider MVPDs a separate product market, or are there narrower or broader product segments we should consider? What are the appropriate geographic markets associated with these product markets (e.g., individual households, census tracts, or cable franchise areas)?

17. In 1992, Congress enacted provisions related to common ownership between cable operators and video programming networks. In the 14th Report, we discussed vertical integration in terms of affiliations between programming networks and MVPDs. Specifically, we identified the number of national video programming networks affiliated with one or more MVPDs. Similarly, we reported on regional programming networks affiliated with MVPDs. We also differentiated between the availability of standard definition (SD) and high definition (HD) versions of individual networks consistent with recent Commission decisions.

18. We anticipate reporting this type of information again in the 15th Report. We therefore request data, information, and comment on vertical integration between MVPDs and video programming networks. In particular, we request information on satellite and terrestrially delivered national and regional networks. How should we measure such vertical integration? For purposes of analyzing vertical integration, how should we determine affiliation? Should we use a minimum ownership share or apply standards similar to those contained in our attribution rules rather than report on any known affiliations as we have done in the past?

19. Underlying regulatory, technological, and market conditions affect market structure and influence the total number of firms that can compete successfully in the market. We invite comments and information regarding the conditions that affect the entry into MVPD markets and rivalry among MVPDs.

20. A number of provisions of the Communications Act and the Commission's rules affect MVPD operators in the market for the delivery of video programming. These include, for example, regulations governing program access, program carriage, must carry, retransmission consent, franchising, effective competition, access to multiple dwelling units, exclusivity, inside wiring, leased access, ownership, over-the-air reception devices, and public interest programming. We seek comment on the impact of these regulations and other Commission rules on entry and rivalry among MVPDs. Are MVPDs identifying the costs attributed to any of these regulations (e.g., retransmission consent) on the bills of their subscribers?

21. We also request data on the number of channels MVPDs dedicate on their respective systems to must-carry; public, educational, and governmental (PEG); and leased access programming. On which tier are these channels placed and is extra equipment required to view them? Are there more or fewer PEG and leased access channels carried on MVPD systems than were carried as of June 2010? What data sources exist to track the availability of PEG and leased access programming? We recognize that the regulations applicable to cable operators may differ from the regulations applicable to DBS systems and other MVPD operators. How do regulatory disparities affect MVPD rivalry? We also solicit comment on specific actions the Commission can take to facilitate MVPD entry and rivalry with the intent to increase consumer choice in the delivery of video programming. In addition, we request comment on any state or local regulations that affect entry and rivalry among MVPDs.

22. We seek information and comment on non-regulatory conditions affecting MVPD entry and rivalry, including the availability of programming. Do these conditions include economies of scale, where large MVPDs can spread fixed costs over more subscribers or negotiate lower prices for video content? Do these conditions also include expected retaliation, where potential MVPD entrants believe incumbents will lower prices to any home considering switching to the new MVPD entrant? What other non-regulatory conditions influence MVPD entry and rivalry?

23. MVPD Conduct. MVPDs may choose from a variety of business models and competitive strategies to attract and retain subscribers and viewers. MVPDs decide, for example, the type of delivered video services they will offer, the programming they offer consumers, and how they package the programming (i.e., the number of tiers of video programming and the specific programming carried on each tier); the complementary product features they will offer (e.g., HD, DVR (digital video recorder), video-on-demand (VOD), online video programming to PCs and mobile devices, and bundled services where telephony and/or broadband is packaged with video service). MVPDs also decide the level of advertising, the degree of vertical integration with suppliers of video programming, whether to initiate or respond to price discounting, and their approach to customer service.

24. We seek descriptions of the varied business models and strategies used by MVPDs for the delivery of video programming. What are key differences among the business models and strategies in terms of services offered to consumers? How do providers distinguish their delivered video services from their rivals? Do cable, DBS, and telephone MVPDs offer comparable video services? Does DBS “local-into-local” delivery of broadcast television signals make it a closer substitute for cable than it would be otherwise? We note that content creators have negotiated “TV Everywhere” agreements in which MVPD subscribers receive access to programming via VOD, online, and mobile wireless devices. To what extent do MVPDs view VOD and TV Everywhere service offerings, both online and on mobile wireless devices, as ways to retain existing subscribers and attract new ones? How extensively do MVPDs offer specialized services to consumers (e.g., multi-room DVR service, more channels, more HD, video content online, access to content on mobile devices, and/or a variety of bundles)? How do MVPDs advertise their services to existing and potential subscribers? What delivered video services do they feature in their advertising?

25. We also seek information regarding the pricing behavior of MVPDs. How does the price MVPDs pay for programming, including sports programming, impact the prices they charge to consumers? Are the prices of MVPD video packages and services easily identifiable and well-explained on consumers' monthly bill and/or MVPDs' web sites and other promotional materials? To what extent do providers of MVPD service reduce prices or offer promotion pricing to attract new subscribers and/or retain existing subscribers? Do providers negotiate with individual subscribers over prices before and after introductory periods? Do homes that subscribe to the same delivered video services, from the same provider, in the same geographic area, pay different prices? How do bundles of service (i.e., packages that combine video, voice, equipment, and/or Internet service) affect the price charged for video services? To what extent have MVPDs been raising prices?

26. We are interested in learning whether an increase in the number of MVPD rivals affects pricing strategies. Do MVPDs charge lower prices (or use different pricing strategies) to homes that have access to multiple MVPDs? For its Annual Cable Price Survey, the Commission collects price data from a sample of cable systems, but does not collect price data for other types of MVPDs (e.g., DBS and AT&T U-verse). We seek price data for MVPDs not included in the Annual Cable Price Survey, such as the monthly rate for both the lowest programming package and any equipment needed to access the video service. What additional data sources on MVPD prices are available for our 15th Report?

27. We also seek information on the competitive strategies of MVPDs in providing VOD and TV Everywhere programming on fixed and mobile devices. In particular, we are interested in learning what competitive issues MVPDs encounter when acquiring content for VOD and TV Everywhere from content creators and aggregators. Does the horizontal or vertical integration of content creators or aggregators, particularly companies that own broadcast television stations as well as broadcast and cable networks and studios, impact the ability of MVPDs to acquire rights to programming or the price of the programming? How does the size of an MVPD impact its bargaining power in such negotiations?

28. We seek data and comment on the provision of local news and sports by MVPDs as a competitive strategy in the delivery of video programming. What other types of local programming do MVPDs offer? What data sources are available to help in our analysis of MVPD provision of local news and sports, as well as other local programming?

29. As discussed above, we seek data, information, and comment on trends in horizontal and vertical mergers and acquisitions. Has any MVPD acquired sufficient market power to impair competition? If so, how has competition been impaired? What consumer benefits, if any, have recent horizontal and vertical mergers achieved? In addition, we invite comment on any other issues concerning MVPD conduct that will assist our analysis of competition in the delivery of video programming by MVPDs.

30. MVPD Performance. We seek comment on the information and time-series data we should collect for the analysis of various MVPD performance metrics. In the 14th Report, we considered performance metrics such as subscribership and penetration rates, financial performance, and investment and innovation. We expect to continue to report on these metrics in the 15th Report. Are there other metrics that would enhance our analysis of MVPD performance? To the extent commenters suggest other metrics, we request data for their use in preparation of the 15th Report.

31. We seek data, information, and comment on trends in the number of linear video channels as well as VOD and TV Everywhere video content offered by MVPDs to fixed and mobile devices. Has the number of linear channels and/or the number of VOD and TV Everywhere programs available increased? What are the most popular MVPD programming packages? Describe these packages in terms of the total number of analog and SD channels, number of HD channels, and number of VOD and TV Everywhere offerings. Are there geographic differences with respect to programming choices? How is the deployment of next-generation MVPD technologies affecting the amount of programming MVPDs offer subscribers on a linear and non-linear basis? What effect has the entry of additional MVPDs had on programming choices and improvements in the delivery of video programming? What impact has the growth in OVD services had on MVPD services, in particular the deployment of VOD and TV Everywhere services? What are the subscription levels for DVR and HD services? How many VOD titles are viewed per system?

32. We seek data and information regarding the number of homes passed nationally, the number of subscribers, and the resulting penetration rate for MVPD service. We also request data regarding trends in the number of new homes that subscribe to MVPD services. In addition, we solicit subscription data for the channel lineup packages (including international, other specific genres, and premium) and other delivered video programming services that MVPDs currently market to consumers. What percentage of customers subscribe to these video packages and other delivered video programming services? How does subscription and penetration data vary by geographic region for MVPDs? What is the level of “churn” (i.e., consumer switching among MVPDs) and is it increasing or decreasing?

33. We request information on various measures of MVPD financial performance, including data on MVPD revenues, cash flows, and margins. To the extent possible, we seek five-year time-series data to allow us to analyze trends. We are interested in the performance of the MVPD industry as a whole as well as the performance of individual MVPDs. What is the average revenue per MVPD subscriber? What are the major sources of video-related revenue for MVPDs? What percentage of total revenue is derived from each of these sources? What are the major video-related drivers of revenue growth? What are the major sources of costs for MVPDs, including programming costs? What is the impact of such costs on MVPDs? We seek data, information, and comments regarding profitability. What metrics and data should we use to measure profitability (e.g., return on invested capital, operating margins)? Are there any other quantitative or qualitative metrics that would add to our analysis of MVPD financial performance? We recognize that many MVPDs also provide non-video services, such as voice and high-speed Internet services, along with video service often offered on a bundled basis. We also note that MVPDs may cross-subsidize services. Our focus, however, is delivered video programming, and commenters submitting financial data should separate video from non-video services. Commenters should specify the methodology each firm uses for allocating joint and common costs. Likewise, commenters should explain the methodology each firm uses for allocating bundled revenue.

34. We ask commenters to provide information concerning MVPDs' investments in the market for video programming, including investment levels over time, investment per subscriber, investment as a percentage of revenue, and capital expenditures by individual MVPDs. Does investment vary by geographic region or between national and regional providers? What innovative services or technologies are MVPDs currently deploying? What is driving this deployment? In addition, we seek comment on how investment and innovation affect competition among MVPDs and other providers of delivered video programming. Have OVDs spurred investment and innovation by MVPDs? To what extent do content aggregators and creators as well as manufacturers of consumer premises equipment influence MVPD investment and innovation?

35. We also request information on the pace at which MVPDs are deploying, or have plans to deploy, new technologies, including transitioning from analog, or hybrid analog/digital, to all-digital distribution, adding IP-delivered video programming, deploying more efficient video encoding technologies (e.g., MPEG-4), deploying enhanced transmission technologies (e.g., DOCSIS 3.0) and expanding 3-D services. To the extent that MVPDs are migrating to digital or otherwise repurposing spectrum, we seek comment on what new or additional services are they providing to consumers (e.g., more HD channels, broadband, VOD, etc.).

Broadcast Television Stations

36. Broadcast Television Structure. Providers of broadcast television service include both individual and group owners that hold licenses to broadcast video programming to consumers. Consumers who do not subscribe to an MVPD service may rely on over-the-air distribution of broadcast televisions for their video programming. Also, many MVPD homes receive broadcast television stations over-the-air on television sets that they have chosen not to connect to MVPD service. The Commission already collects data on the number of broadcast television stations in each designated market area (DMA) and ownership of broadcast television stations using our CDBS database, and purchases data from BIA/Kelsey and The Nielsen Company. We seek additional data concerning the number of households that rely on over-the-air broadcast television service, either exclusively or supplemented with OVD service, rather than receiving broadcast programming from an MVPD. In addition to the number of homes relying on over-the-air broadcast service, we request information regarding any demographic and geographic characteristics of such households. We also seek data on the percentage of households that own television sets, i.e., the total number of television households. We also seek data regarding the number of households with DVRs and HD sets. How many households routinely view broadcast programming over-the-air in addition to subscribing to an MVPD?

37. We are interested in tracking common ownership of broadcast stations nationally and by DMA. Commission rules limit the number of broadcast television stations an entity can own in a DMA, depending on the number of independently owned stations in the market. The Commission already collects data that we can use to assess the horizontal structure of broadcast television stations, including the number of stations in each DMA and the ownership of each station. Is there other available data that may better inform our assessment of horizontal concentration in the broadcast station industry?

38. The Commission has collected data that we can use to analyze trends in vertical integration, including data on the number of broadcast stations owned by or affiliated with video content creators and aggregators. For the 15th Report, we seek to report on the vertical integration of broadcast television stations with broadcast networks and cable networks as we have done in the past. As such, we seek data on the vertical structure of the broadcast television industry. How many broadcast television stations, nationally and within each DMA, are vertically integrated with a broadcast network or a cable network? What, if any, trends exist with respect to the vertical integration between television stations and broadcast networks or cable networks? How does the vertical integration of television stations with broadcast networks, cable networks, and studios affect their ability to negotiate with MVPDs and OVDs for carriage rights? We also seek comment on ways to improve our analysis of vertical integration.

39. We also request data, information, and comment on the impact of horizontal and vertical combinations on the competitive condition of broadcast television stations with respect to the delivery of video programming. Does group ownership of broadcast stations within a DMA and/or across DMAs affect advertising revenue? Does group ownership within a DMA or across DMAs affect the price paid for video content? Are broadcast television stations that are vertically integrated with broadcast television networks better able to compete in the delivery of video programming? Do joint sales agreements (JSAs), local marketing agreements (LMAs), and shared services agreements (SSAs) impact the provision of programming to the public? Do these types of sharing arrangements affect the competitiveness of independent stations?

40. The Commission's spectrum allocation and licensing policies affect the structure of broadcast television by limiting the number of stations located in a given geographic area. Other Commission rules limit the number of broadcast television stations an entity can own in a DMA as well as limit the national audience reach of commonly owned broadcast television stations. Congress recently enacted legislation that provides for voluntary participation of broadcast station licensees in “reverse auctions” in which they may offer to relinquish some or all of their licensed spectrum usage rights in exchange for a share of the proceeds from a “forward auction” of licenses for the use of any reallocated TV broadcast spectrum. In the 14th Report, we noted that these statutory and regulatory actions may affect the entry and rivalry of broadcasters. We seek data, information, and comment on the impact of these requirements on entry and rivalry in the broadcast television industry. Are there other regulations that affect entry and rivalry of broadcast television stations? We ask commenters to provide data and examples for each regulation that affects entry and rivalry.

41. We seek information and comment on non-regulatory conditions affecting entry and rivalry, including access to capital and programming. For example, are there supply-side economies of scale that enable commonly owned broadcast television stations to spread fixed costs over greater audiences? Are there demand-side economies of scale that enable commonly owned broadcast television stations to negotiate lower prices for video programming? We invite analysis of the relationship between the advertising market and entry and exit in broadcast television. What other non-regulatory conditions influence entry and rivalry and to what extent? Which broadcast station licensees have entered or exited the broadcast televisions industry and why?

42. Broadcast Television Conduct. Because broadcast television stations do not charge consumers directly for the delivery of their signals, they do not compete on price in the traditional sense. Broadcast television is free to consumers who receive it over-the-air. Nevertheless, since about 90 percent of all television households receive broadcast stations from an MVPD, most consumers pay for broadcast stations as part of their MVPD service. In the case of cable, broadcast television stations are part of the basic service package, which is generally a low price offering. What price do MVPDs charge to consumers to receive broadcast television stations on their basic tier of service?

43. Commercial broadcast television stations earn revenue from advertising. We seek data, information, and comment on the business strategies of broadcast television stations as they confront changes in the advertising market, both long-term changes and those changes brought on by the economic downturn. In particular, we seek data on trends in prices for spot and local advertising on broadcast television stations. How does revenue from political advertising affect broadcasters' business strategies? To what extent has offering video content online increased the advertising revenue of broadcast stations?

44. Some commercial broadcast television stations also earn revenue in the form of retransmission consent fees from MVPDs in return for carriage of their stations. We seek information regarding the types and characteristics of stations seeking retransmission consent fees. We also request comment on the types and characteristics of stations choosing MVPD carriage under the must-carry regime. In addition, we request information regarding any business strategies aimed at increasing revenue from retransmission consent fees. What prices (per subscriber) are broadcast stations receiving from MVPDs for retransmission consent?

45. Broadcast stations compete with each other for viewers and advertisers on two major non-price criteria—programming and the ability to view such programming in multiple formats. As a result of the digital transition, each broadcast television station has been allotted 6 MHz of spectrum permitting multiple linear program streams, HD broadcasts, and/or the delivery of programming to mobile devices. We seek data, information, and comment on the use of multiple program streams as a business strategy to enhance a broadcaster's competitive position in the delivery of video programming. What types of programming are broadcasters carrying on their multiple streams? Does the ability to offer multiple programming streams since the digital transition enhance the ability of broadcasters to attract viewers to over-the-air video service and to compete against MVPDs? We also seek data, information, and comment on the number of broadcast television channels available in each DMA, counting both primary stations and additional multicast programming streams. Has the amount of programming increased since the digital transition?

46. Are broadcasters using HD programming as a strategy to attract viewers? How many broadcast television stations offer video content in HD? What percentage of their programming is in HD? Has this percentage increased over time? What effect does the ability to offer video programming in HD have on broadcast stations' ability to compete against other broadcasters and attract viewers? Are broadcasters using their ability to deliver programming to mobile devices as a competitive strategy? How many broadcasters are currently delivering programming to mobile devices? Do broadcasters have business plans to use some of their digital capacity for a subscription service or to lease a portion of their digital spectrum capacity to others for a subscription service?

47. Broadcasters remain important providers of local news. We seek data and comment on the provision of local news as a competitive strategy in the delivery of video programming and the geographic availability of local news programming. We also request comment on the strategies and partnerships broadcasters are using to deliver news online. Does the ability to distribute programming online lead some broadcasters to increase their investment in news and information programming or provide news to consumers that might not otherwise be available?

48. For many years, broadcast television networks have used their local broadcast television affiliated stations as their primary distributor of programming. We solicit comment on whether and how broadcast television stations position themselves to remain the primary distributor of broadcast television network programming. To what extent is local broadcast programming available online, either on their own Web sites or through licensing agreements with OVD aggregators, such as Hulu and iTunes? What effect does the availability of broadcast programming online have on broadcast stations? Are there benefits to broadcasters of making video content available online and on devices other than a television set? If so, what are those benefits?

49. Finally, what competitive strategies do broadcast television stations use to distinguish themselves from other broadcast television stations? For example, are broadcasters investing in local programming, other than news, to enhance the competitive position of their stations? We also seek data, information, and comment on the additional business strategies broadcast television stations use in competing against each other.

50. Broadcast Television Performance. We seek information and time-series data for the analysis of various performance metrics for broadcast television. These metrics include the improvements in quantity and quality of broadcast television station programming, over-the-air viewership, viewership from carriage on MVPDs, revenue from advertising, revenue from retransmission consent fees, other revenue, investment and innovation, and rate of return/profitability.

51. We seek data, information, and comment on the viewership of broadcast television stations both from over-the-air reception and MVPD carriage. What is the trend in total viewership in total household terms? What is the trend in the share of the total audience that broadcast television stations receive either over-the-air or via MVPD carriage relative to the share received by cable networks carried by MVPDs? How many households view broadcast television stations online rather than over-the-air?

52. We seek data on broadcast television station revenues, cash flows, and profit margins. We are interested in the performance of the broadcast television industry as a whole as well as the performance of broadcast television stations, on average.

53. In the 14th Report, we provided information regarding the major sources of revenue for broadcast stations—advertising, network compensation, retransmission consent, and ancillary DTV revenues. We seek data on each of these revenue sources. What percentage of total revenue is derived from each of these sources? How are these revenue sources and their relative shares of total revenue changing? Are there changes to the network/affiliate relationships that affect broadcast stations' revenues? We specifically seek information regarding the extent to which network affiliated broadcast stations now pay “reverse compensation” to their networks and/or share retransmission consent revenues with the network. We realize that some broadcast stations are integrated with other businesses but we are primarily interested in financial data related directly to the video programming of broadcast television stations, such as the local and national advertising revenue, retransmission consent fees, and revenue from stations' Web sites.

54. We also seek data regarding the profitability of broadcast television stations. In the 14th Report, we assessed profitability by examining both financial reports and data on a station-level and company-level basis. What metrics and data should we use in the 15th Report to measure profitability (e.g., return on invested capital and operating margins)? What are the major expenses for broadcast television stations? We are particularly interested in the impact of programming costs on broadcast television stations. Has the financial performance of broadcast stations improved given the broader distribution of broadcast stations' video programming through nonlinear formats, such as OVDs, VOD, and TV Everywhere services? Are there any other quantitative or qualitative metrics that would add to our analysis of broadcast television stations' financial performance?

55. We seek comment on how investment in digital television affects competition among broadcast television stations and in the larger market for the delivery of video programming. We request data on broadcast television stations' investment in digital television and innovative technologies for distributing traditional programming, as well as on the financial returns of these investments. What has investment in digital television done to enhance the competitive position of broadcast television stations in the delivery of video programming? Are there geographic differences in the amount of investment?

Online Video Distributors

56. OVD Structure. OVDs are entities that distribute video content over the Internet to consumers. To receive video content distributed by an OVD, a consumer must subscribe to a high-speed Internet access service. The Commission already collects data on entities that provide fixed and mobile high-speed Internet access services. We therefore have significant information regarding the structure, conduct, and performance of the broadband markets, including the number and size of participants, the number of homes that have access to each provider's high-speed Internet service, the download and upload speeds, the services offered by broadband providers, and the prices charged for broadband service. With respect to the delivery of video content by OVDs, we seek comment on the best available sources of information to enable us to analyze OVDs. The 14th Report surveyed some of the major players in the OVD marketplace, but lacked data and information covering the OVD industry as a whole. To the extent they are available, we ask commenters to provide data and information regarding the OVD marketplace for the 15th Report.

57. The OVD marketplace has grown substantially over the last few years. Today, OVDs include programmers and content producers/owners (e.g., broadcast and cable networks, sports leagues, and movie studios), video sharing sites and social network services (e.g., YouTube and Facebook), and affiliates of manufacturers, retailers, and other businesses (e.g., Amazon.com and Wal-Mart's Vudu service). We request data, information, and comment on the number, size, and types of OVDs. Are OVDs typically affiliated with other businesses or are they stand-alone entities? To what extent do individual OVDs compete with other OVDs? What data sources are available to analyze the structure of the OVD marketplace? What entities do OVDs view as direct competitors? For instance, do OVDs compete with MVPDs and/or broadcast television stations? Is OVD service a substitute or complement for MVPD service? What data are available and what metrics should we use to analyze the extent to which OVDs' services are a substitute or complement to MVPD service?

58. We request input about issues relating to horizontal concentration and vertical integration in the OVD marketplace. In the 14th Report, we noted that it is difficult to measure horizontal concentration in the OVDs market due to continual entry and exit of industry participants, inability to access necessary data, and lack of established metrics to measure OVD performance. Are there any new data sources available that would help the Commission undertake a horizontal concentration analysis in the 15th Report? What methodologies might the Commission employ? What metrics could the Commission use?

59. We also seek comment and data that would permit us to assess vertical integration in the OVD marketplace. We note that many OVDs are vertically integrated with other businesses. How do these relationships affect competition in OVD marketplace? For example, do affiliations between OVDs and content owners impact the availability of specific online content via multiple OVDs? Do affiliations between OVDs and equipment retailers and/or manufacturers have an impact on the ability of consumers to access OVD content via multiple devices, including mobile devices?

60. We further request comment on conditions that affect entry into the OVD marketplace and rivalry among OVDs. What legal and regulatory barriers to entry do OVDs face? What non-regulatory barriers exist? For example, OVDs often depend on unaffiliated ISPs to deliver content to their customers. What affect does the need to rely on third parties to deliver their video content to consumers have on the ability of entities to enter and compete in the OVD marketplace? What percentage of a typical ISP's traffic is due to OVD content? Do difficulties in acquiring content rights, or the costs of acquiring such rights, act as a significant barrier to entry? Does the increasing cost of programming content have the potential to drive OVDs out of business? What other non-regulatory barriers to entry are there? What are the trends in recent OVD entry or exit, and what specific factors contribute to OVD entry or exit?

61. OVD Conduct. What business models and competitive strategies do OVDs use to compete in the delivery of video content? What are the key differences among the business models and strategies in terms of services offered to consumers? Some OVDs provide content to users for free, while others charge users a fee to access content. Some OVDs charge a monthly fee, while others charge separately for each television program or movie. We seek comment on the factors that affect an OVD's choice of business models. Are OVDs increasingly inclined to charge consumers for access to their content? To what extent do OVDs rely on advertising, subscription fees, per-program fees, or other sources of revenue? Are OVDs implementing additional revenue strategies? We also seek information on the prices OVDs charge for access to video content over the Internet. What prices are consumers currently paying for OVD service? Have these prices changed over the last few years, and if so, why? In addition, we request information on whether OVDs are implementing business models that are not free, subscription, or transaction based. For example, to what extent are OVDs entering partnerships with MVPDs or other entities to provide bundled, exclusive, or otherwise enhanced access to the OVD service for subscribers of MVPDs or other entities?

62. In the last few years, OVDs have made an increasing amount of video content available to consumers over the Internet. What are the types of business arrangements OVDs use to acquire distribution rights for content? What strategies are OVDs implementing to obtain video content for their libraries? How does the decision to charge customers affect an OVD's ability to deliver additional content to consumers? To what extent are producers and owners of highly desirable content willing to make that content available to consumers online? What other factors have an impact on the ability of OVDs to secure the rights to compelling content?

63. OVDs increasingly make their video content available to subscribers via multiple devices, including mobile devices such as smartphones and tablets. To what extent must OVDs make content available via multiple devices, including mobile devices, in order to compete in the OVD marketplace? What costs or difficulties do OVDs face when attempting to make content available via multiple devices?

64. How is OVD service advertised? What media do OVDs use to advertise their service? Do OVDs highlight the availability of increasing amounts of online video content to attract more viewers and/or subscribers? Do OVDs use the ability to access content via multiple devices, including mobile devices, as a means to attract and retain subscribers? What other factors do OVDs stress in advertisements?

65. Currently, most OVD services allow viewers to search for content (e.g., video clips, episodes of TV shows, or movies) within the OVD's library and to view such content whenever the customer wishes. To what extent have OVDs begun to produce or acquire original content? What are the costs of producing or acquiring such content and does such content attract additional viewers? Are those OVDs offering original content more competitive with MVPDs and broadcasters? Are OVDs providing live and local content as a means to attract viewers (e.g., local news and sporting events)? What additional strategies are OVDs using to differentiate themselves from competitors? To what extent do OVDs provide data on content availability to third parties for inclusion in their content directories?

66. OVD Performance. We seek input concerning OVD viewership, revenue, investment, and profitability. In order to measure viewership, we seek information concerning the type of video content available online, particularly television programs, movies, and sports, as well as the extent to which consumers are viewing such content. How many consumers viewed content online as of June 30, 2011 and June 30, 2012? We also seek other metrics that might be used to measure OVD viewership, such as hits/views, subscribership numbers, and consumer purchase transactions. Have these numbers increased over the last few years, and if so, why? Has the entry of OVDs in the marketplace resulted in reduced viewership of video programming from MVPDs and broadcast television stations? What metrics should we use to compare OVD viewership, MVPD viewership, and broadcast television station viewership? How have the windowing strategies of video content aggregators and creators impacted OVDs? How have OVDs increased the quantity and improved the delivery of their video content since the 14th Report? Is the OVD market affected by the ability of MVPDs to increase their capacity to offer video content using digital and IP-based technologies?

67. The 14th Report identified several possible revenue sources for OVDs, including fees from consumers; in-video advertising; display advertising around the video; product placement; and advergaming. We seek updated revenue data for these sources, as well as any other revenue sources available to OVDs. What revenue sources are the most lucrative for OVDs?

68. We also request information and comment on investments and innovations in the OVD marketplace. What types of entities are investing in new and existing OVDs? What financial returns do OVDs earn on their investments? What types of investments are OVDs making to enhance their growth? Are OVDs increasingly entering into joint ventures or partnerships to increase investment opportunities? What innovative services or technologies are OVDs currently deploying? How should we measure profitability for OVDs given that many operate within multimedia conglomerates or other large, diversified businesses? Are there additional performance metrics we should consider for OVDs? We seek comment on suggested ways to measure OVD performance and relevant data that will allow us to perform such analysis.

Rural Versus Urban Comparison

69. Section 628(a) of the Communications Act sets as a goal increasing the availability of video programming to persons in rural and underserved areas. As in previous reports, we expect to compare competition in the market for the delivery of video in rural markets with that in urban markets. The Communications Act does not include a definition of what constitutes a rural area, and the Commission has used various proxies to define rural areas, including Economic Area (EA) Nodal versus Non-nodal counties and Metropolitan Statistical Area (MSA) counties versus Rural Service Areas (RSA) counties. In the 14th Report, the Commission opted to use its definition of the term “rural,” which it defines as a county with a population density of 100 persons or fewer per square mile. Is this a satisfactory definition for the purpose of measuring the availability of and competition among providers of video programming? Are there other alternatives we should consider based on zip codes, census tracts, or some other geographic unit to compare competition among video programming distributors in rural and urban areas?

70. We seek data, information, and comment to assess whether there are differences in the delivery of video programming between rural and urban areas, and the factors that account for any differences. Are there differences between the quantity and types of video programming offered to rural consumers versus urban consumers? How does competition between MVPDs, broadcast stations, and OVDs differ in rural and urban areas? Are there demographic, geographic, and economic factors driving competitive differences in rural and urban markets? Which, if any, delivered video programming services are most often lacking in rural areas? We recognize that most homes have access to two DBS services—DIRECTV and DISH Network—that provide national service. How many homes in rural and urban areas lack access to a cable system or another wireline MVPD? Is the percentage of these homes greater in rural areas? How does access to broadcast television stations differ between rural and urban areas? Are there any distinctions between rural and urban areas in the reliance of over-the-air broadcast signals? Do rural areas have less access to high-speed Internet service and, therefore, less access to OVD services relative to urban areas? How has the growth of online video increased the buildout of broadband in rural areas?

71. We also request information, data, and comment regarding the differences in the prices of delivered video service in rural areas relative to urban areas. Are MVPDs operating in rural areas charged similar rates for content as MVPDs in urban areas? How do the retransmission rates in rural areas compare to those in urban areas? When MVPD service is available in rural areas, are prices higher or quality lower relative to urban markets? Are there examples of rural areas that receive delivered video programming service similar in price and quality to those found in urban areas?

Key Industry Inputs

Video Content Creators and Aggregators

72. Creators of video programming are major production studios and independent production companies. Video content aggregators are entities that combine video content into packages of video programming for distribution. Video content aggregators include broadcast networks (e.g., ABC), cable networks (e.g., ABC Family), and broadcast stations (e.g., WJLA-TV, Washington, DC). Many of the large entertainment conglomerates include subsidiaries that are both video content creators and aggregators. We request data, information, and comment that will help us analyze the number and size of content creators and aggregators and the relationships between the content creators and aggregators and the firms that distribute video content. Do independent production entities face any barriers in obtaining carriage on all or some delivery systems (including broadcast, MVPDs, and OVDs)? In addition, we are interested in information regarding entities, local and national, creating news, public interest programming and/or sports and the relationships between the content creators and those that deliver video programming. We are also interested in trends in vertical integration among studios and networks. What effect, if any, does vertical integration have on their willingness and ability to make programming available to MVPDs, broadcast television stations, or OVDs on a linear and nonlinear basis? Are there any differences for MVPDs, broadcasters, or OVDs with respect to their relationships with independent content creators in comparison to vertically integrated content creators? If so, what is the impact of these differences?

73. We also seek data, information, and comment on the business strategies of content creators and aggregators regarding the selling and licensing of video content and the effect on video distribution. In recent years, some content owners have altered their business strategies with respect to the type of video content created, the timing of release of specific video content through the various delivery windows (“windowing”), and the prices charged for content in each window. How have these changes affected competition between distributors of video programming or the growth of OVDs? Have there been significant changes in the bargaining power between content owners and distributors of video programming since the 14th Report? How have changes in content creation altered investment in the distribution of video programming? How do the windowing strategies of video content owners affect the distribution of video programming through VOD and over the Internet? How do the business models of OVDs (i.e., electronic sell-through, advertising-supported, and/or subscription-based models) alter the windowing strategies of content aggregators and creators? Have business strategies changed for creators of news programming, especially local news programming? Do the delivery strategies for the creators of sports programming differ from other video content creators? Have the business strategies of sports leagues evolved and, if so, how? Has the entry or growth of new video content aggregators lead to an expanded number of MVPD channel offerings or additional programming on broadcast television stations using multiple digital streams? Are new entrants or established video content aggregators driving the creation of additional programming networks and/or packages?

Consumer Premises Equipment

74. Consumer premises equipment traditionally refers to devices that enable consumers to watch video content from MVPDs and broadcast stations on televisions. Such devices include televisions, antennas, cable and satellite set-top boxes, DVD players, and recording equipment (e.g., DVRs). Today, however, consumer premises equipment also includes devices (e.g., video game consoles and media streaming devices) that permit video content delivered by MVPDs and OVDs to be viewed on a television, as well as allow video content delivered by broadcast television stations and MVPDs to be viewed on personal computers or mobile devices.

75. Recently, the term “consumer premises equipment” has come to include devices, such as “connected-TVs,” that receive video content directly from the Internet. Similarly, in addition to enabling users to watch videos on computers, several set-top boxes (e.g., Roku, Boxee, and Apple TV) deliver online video directly to viewers' televisions. With connected-TVs, game consoles (e.g., Microsoft's Xbox and Sony's PlayStation), or Blu-Ray players, consumers can also watch certain television programs, movies, and sporting events online. DVR manufacturer TiVo enables consumers to purchase movies and television programs from online stores, stream movies and content from subscription services like Hulu Plus and Netflix, and, in certain areas, access cable-provided video-on-demand. Likewise, mobile devices, such as Apple's iPad, enable consumers to watch some television programs and movies using broadband wireless connections. These and other devices allow consumers to purchase and download online video content.

76. In the 15th Report, we plan to discuss the devices that facilitate the delivery of video programming and their effect on competition in the delivery of video programming. We recognize the costs of consumer premises equipment may hinder competition by, among other things, raising consumers' switching costs. We therefore request information on developments relating to consumer premises equipment and the services providing options to consumers for viewing video programming. In particular, we seek information on the retail market for set-top boxes, including set-top boxes that do not use CableCARDs, such as those sold at retail for use with DBS services or for use with OVD services. What are the challenges that manufacturers face in investing and innovating in consumer equipment? What are the different types of consumer premises equipment—both MVPD supplied and non-MVPD supplied—used to access video content and the capabilities thereof? What prices do MVPDs typically pay for those devices? To what extent do MVPDs offer different equipment options at different price points on their systems, and what is the overall lease cost of such equipment to subscribers? To the extent that consumers can purchase comparable devices, what price would a consumer pay for such a device?

77. We also seek information and comment on how competition among MVPDs affects the deployment of new CPE and delivery technologies to improve the subscriber experience, such as through improved search and navigation capabilities. In particular, we seek information on the extent to which MVPDs are using managed IP clouds to deliver network-based DVRs, interactive programming guides, IP video streaming, VOD and other interactive applications. In addition, we request information regarding the impact of digital rights management technology and conditional access technology (and associated patent or content licensing terms) on the availability of video programming to consumers. What are the adoption trends among consumers for these types of equipment? To what extent are CPE manufacturers partnering with OVDs, MVPDs, content aggregators, and content creators to offer linear or non-linear video programming to consumer devices?

78. We understand that there are certain things MVPDs must coordinate with electronics manufacturers (e.g., DRM, codecs, and connectors) in order to deliver video programming to consumers. We seek comment on other technical specifications that MVPDs, content owners, and consumer electronics manufacturers coordinate. How do these parties agree on the devices that are used? How much interaction is there between MVPDs delivering video programming and manufacturers of consumer premises equipment, especially manufacturers of cable and DBS set-top boxes and devices enabling consumers to view online video on their televisions?

Consumer Behavior

79. We seek information about how trends in consumer behavior affect the products and services of providers of delivered video programming. For instance, we seek data on trends that compare consumer viewing of regularly scheduled video programming with viewing of time-shifted programming using DVRs, VOD content, and OVD content. Video content available online is increasing, and reports indicate that an increasing number of consumers are viewing videos online. To what extent are consumers becoming “cord avoiders” and dropping MVPD service in favor of OVDs or a combination of OVDs and over-the-air television? Are consumers reducing their MVPD subscriptions by, for example, substituting Netflix for premium channels or VOD services? Do consumers view OVD services separately or in conjunction with over-the-air broadcast television service as a potential substitute for MVPD service? What impact do “cord-nevers” have on the market for delivered video programming?

80. Video distributors advertise their services on television, in newspapers, and through mailings, as well as offer Internet sites where potential consumers can find information about services, equipment, prices, and the cost of installation. We seek data, information, and comment on the consumer information sources for delivered video programming services and equipment. Do consumers have sufficient information to compare the prices, services, and equipment that video distributors offer? What do consumers consider most important when choosing a provider? What do consumers say are the main reasons for switching providers (e.g., price, program packages, and customer service)?

Procedural Matters

81. Ex Parte Rules. There are no ex parte or disclosure requirements applicable to this proceeding pursuant to 47 CFR 1.204(b)(1).

82. Comment Information. Pursuant to sections 1.415 and 1.419 of the Commission's rules, 47 CFR 1.415, 1.419, interested parties may file comments and reply comments on or before the dates indicated on the first page of this document. Comments may be filed using: (1) the Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://fjallfoss.fcc.gov/ecfs2/ or the Federal eRulemaking Portal: http://www.regulations.gov.

For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet email. To get filing instructions, filers should send an email to ecfs@fcc.gov, and include the following words in the body of the message “get form.” A Sample form and directions will be sent in response.

Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People with Disabilities: Contact the FCC to request materials in accessible formats for people with disabilities (braille, large print, electronic files, audio format), send an email to fcc504@fcc.gov or call the Consumer & Governmental Affairs Bureau at 202-418-0530 (voice), 202-418-0432 (TTY).

Federal Communications Commission.
Marlene H. Dortch,
Secretary.

[FR Doc. 2012-19107 Filed 8-7-12; 8:45 am]

BILLING CODE 6712-01-P